DEPARTMENT OF THE INTERIOR

Fish and Wildlife Service

Notice of Decision and Availability of Decision Documents on the Issuance of Permits for Incidental Take of Threatened and Endangered Species

AGENCY: Fish and Wildlife Service, Interior.

ACTION: Notice of decision.

SUMMARY: Between November 14, 2001, and November 22, 2002, Region 1 of the Fish and Wildlife Service (we, the Service) approved 11 Habitat Conservation Plans (HCPs) and associated permits for the incidental take of threatened and endangered species, pursuant to section 10(a)(1)(B) of the Endangered Species Act of 1973, as amended (Act). We also amended two HCPs and associated permits. In addition, we issued two permits for Safe Harbor Agreements and one permit for a Candidate Conservation Agreement with Assurances, pursuant to section 10(a)(1)(A) of the Act.

Copies of the permits and associated decision documents are available upon request. Charges for copying, shipping and handling may apply.

ADDRESSES: Documents are available from the Fish and Wildlife Service, 911 N.E. 11th Avenue, Portland, Oregon 97232.

FOR FURTHER INFORMATION CONTACT: If you would like copies of any of the above documents, please contact Shelly McKeever, Administrative Assistant, at telephone (503) 231-6241.

SUPPLEMENTARY INFORMATION: Section 9 of the Act and Federal regulation prohibit the take of wildlife species listed as endangered or threatened, respectively. Under the Act, the term “take” means to harass, harm, pursue, hunt, shoot, wound, kill, trap, capture, or collect listed wildlife, or to attempt to engage in any such conduct. The Service may, under limited circumstances, issue permits to authorize take that is incidental to, and not the purpose of, carrying out an otherwise lawful activity. Regulations governing permits for threatened and endangered species are found in 50 CFR 17.32 and 17.22.

Between November 14, 2001, and November 22, 2002, Region 1 of the Service issued or amended the following permits for incidental take of threatened and endangered species, pursuant to section 10(a)(1)(B) and section 10(a)(1)(A) of the Act. We issued or amended each permit after making the following determinations: the application had been submitted in good faith; all permit issuance criteria were met, including the requirement that granting the permit will not jeopardize the continued existence of listed species; and the permit was consistent with the Act and applicable regulations, including a thorough review of the environmental effects of the action and alternatives pursuant to the National Environmental Policy Act of 1969.

Approved plan/permit | Permit No. | Issuance date
Habitat Conservation Plans:
Redhawk Communities | TE051895-0 | 01/15/02
Dos Pueblos Golf Links (2 permits) | TE045997-0 | 01/16/02
| TE046002-0 | 01/16/02
Temecula Ridge Apartments and Temecula Village | TE052816-0 | 02/08/02
Natomas Basin, Metro Air Park | TE036473-0 | 02/21/02
Cyanotech Aquaculture Facility | TE051040-0 | 03/18/02
Mayer Property | TE054227-0 | 06/04/02
California Department of Corrections Statewide Electrified Fence Project | TE058060-0 | 06/12/02
Multiple Species Conservation Program, County of San Diego Subarea Plan, Permit Amendment for Cielo Ridge and Rancho de Lusardi | PRT-840414 | 07/09/02
West Fork Timber, Permit Amendment for lynx and bulltrout | TE777837-2 | 07/24/02
University of California, Davis—2002 Campus Projects | TE060073-0 | 07/31/02
Mission View Estates | TE060752-0 | 08/08/02
Lathrop Wells | TE060997-0 | 08/16/02
AT&T—Point Arena Mountain Beaver | TE063833-0 | 10/28/02
Candidate Conservation Agreements With Assurances:
Soulen Ranch | TE055219-0 | 09/29/02
Safe Harbor Agreements:
Forster-Gill, Inc. | TE057898-0 | 06/18/02
Umikoa Ranch | TE044015-0 | 12/05/01

Copies of these permits, the accompanying HCP, Safe Harbor Agreement, or Candidate Conservation Agreement with Assurances, and associated documents are available upon request. Decision documents for each permit include a Findings and Recommendation; a Biological Opinion; and either a Finding of No Significant Impact, a Record of Decision, or an Environmental Action Statement. Associated documents may also include an Implementing Agreement, Environmental Assessment, or Environmental Impact Statement, as applicable.

Dated: January 15, 2003.
Rowan W. Gould,
Deputy Regional Director, Fish and Wildlife Service, Region 1, Portland, Oregon.

[FR Doc. 03-1302 Filed 1-21-03; 8:45 am]

BILLING CODE 4310-55-P